DEPARTMENT OF COMMERCE

International Trade Administration

Renewable Energy and Energy Efficiency Advisory Committee

AGENCY: International Trade Administration, U.S. Department of Commerce.

ACTION: Notice of an open meeting.

SUMMARY: The Renewable Energy and Energy Efficiency Advisory Committee (RE&EEAC) will meet via conference call on May 2 and May 3, 2012 to consider and vote on proposed recommendations from the Domestic Policy, Finance and Trade Subcommittees that address issues affecting U.S. competitiveness in exporting renewable energy and energy efficiency (RE&EE) products and services, such as access to finance and removal of trade barriers. The RE&EEAC will also review and vote on a draft letter to Secretary of Commerce, John Bryson, regarding the need for a strong domestic policy to encourage growth in the U.S. RE&EE markets as a strong base for exports. RE&EEAC members will review and discuss recommendations on May 2, 2012. Members will reconvene on May 3, 2012 to vote on recommendations.

DATES: May 2, 2012, from 10 a.m. to 2 p.m. Eastern Daylight Time (EDT); May 3, 2012 from 12 p.m. to 2 p.m. EDT.

ADDRESSES: The meeting will be held via conference call.

FOR FURTHER INFORMATION CONTACT: Brian O'Hanlon, Office of Energy and Environmental Technologies Industries (OEEI), International Trade Administration, U.S. Department of Commerce at (202) 482-3492; email: brian.ohanlon@trade.gov. This conference call is accessible to people with disabilities. Requests for auxiliary aids should be directed to OEEI at (202) 482-3889 at least 3 working days prior to the event.

SUPPLEMENTARY INFORMATION: Background: The Secretary of Commerce established the RE&EEAC pursuant to his discretionary authority and in accordance with the Federal Advisory Committee Act (5 U.S.C. App.) on July 14, 2010. The RE&EEAC provides the Secretary of Commerce with consensus advice from the private sector on the development and administration of programs and policies to enhance the international competitiveness of the U.S. RE&EE industries. The RE&EEAC held its first meeting on December 7, 2010 and several subsequent meetings throughout 2011 and 2012.

The meeting is open to the public. Members of the public wishing to attend the conference call must notify Mr. Brian O'Hanlon at the contact information above by 5 p.m. EDT on Thursday, April 26, in order to pre-register and receive call-in instructions. Please specify any request for reasonable accommodation by Thursday, April 26. Last minute requests will be accepted, but may be impossible to fill.

Any member of the public may submit pertinent written comments concerning the RE&EEAC's affairs at any time before or after the meeting. Comments may be submitted to brian.ohanlon@trade.gov or to the Renewable Energy and Energy Efficiency Advisory Committee, Office of Energy and Environmental Technologies Industries (OEEI), International Trade Administration, Room 4053; 1401 Constitution Avenue NW., Washington, DC 20230. To be considered during the meeting, comments must be received no later than 5 p.m. EDT on Thursday, April 26, 2012, to ensure transmission to the Committee prior to the meeting. Comments received after that date will be distributed to the members, but may not be considered at the meeting.

Copies of RE&EEAC meeting minutes will be available within 30 days of the meeting.

Edward A. O'Malley,
Director, Office of Energy and Environmental Industries.

[FR Doc. 2012-9305 Filed 4-17-12; 8:45 am]

BILLING CODE 3510-DR-P